DEPARTMENT OF TRANSPORTATION

Federal Aviation Administration

Approval of Noise Compatibility Program for Meadows Field Airport, Bakersfield, CA

AGENCY: Federal Aviation Administration, DOT.

ACTION: Notice.

SUMMARY: The Federal Aviation Administration (FAA) announces its findings on the noise compatibility program submitted by County of Kern, Department of Airports under the provisions of Title I of the Aviation Safety and Noise Abatement Act, as amended, (Public Law 96-193) (hereinafter referred to as “the Act”) and 14 CFR Part 150. These findings are made in recognition of the description of Federal and nonfederal responsibilities in Senate Report No. 9652 (1980). On January 16, 2008, the FAA determined that the noise exposure maps submitted by County of Kern, Department of Airports under Part 150 were in compliance with applicable requirements.

DATES: Effective Date: The effective date of the FAA's approval of the Noise Compatibility Program for Meadows Field Airport is September 18, 2008.

FOR FURTHER INFORMATION CONTACT: Victor Globa, Federal Aviation Administration, Los Angeles Airports District Office, P.O. Box 92007, Los Angeles, CA 90009-2007, Telephone: 310/725-3637. Documents reflecting this FAA action may be reviewed at this same location.

SUPPLEMENTARY INFORMATION: This notice announces that the FAA has given its overall approval to the Noise Compatibility Program for Meadows Field Airport, effective September 18, 2008. Under section 104(a) of the Aviation Safety and Noise Abatement Act of 1979, as amended (hereinafter referred to as the “Act”) [recodified as 49 U.S.C. 47504], an airport operator who has previously submitted a Noise Exposure Map may submit to the FAA a Noise Compatibility Program which sets forth the measures taken or proposed by the airport operator for the reduction of existing non-compatible land uses and prevention of additional noncompatible land uses within the area covered by the Noise Exposure Maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where Federal funding is sought, requests for project grants must be submitted to the FAA Airports District Office in Hawthorne, California.

The County of Kern, Department of Airports submitted to the FAA on August 28, 2007, the Noise Exposure Maps, descriptions, and other documentation produced during the noise compatibility planning study conducted from October 19, 2005 through August 28, 2007. The Meadows Field Airport Noise Exposure Maps were determined by FAA to be in compliance with applicable requirements on January 16, 2008. Notice of this determination was published in the Federal Register on February 20, 2008 (73 FR 940 1-9402).

The Meadows Field Airport study contains a proposed noise compatibility program comprised of actions designed for phased implementation by airport management and adjacent jurisdictions (from October 10, 2005 to beyond the year 2010). It was requested that the FAA evaluate and approve this material as a Noise Compatibility Program as described in 49 U.S.C. 47504 (formerly Section 104(b) of the Act). The FAA began its review of the program on June 23, 2008 and was required by a provision of the Act to approve or disapprove the program within 180 days (other than the use of new or modified flight procedures for noise control). Failure to approve or disapprove such program within the 180-day period shall be deemed to be an approval of such program.

The submitted program contained ten (10) proposed actions for noise abatement, land use planning and program management on and off the airport. The FAA completed its review and determined that the procedural and substantive requirements of the Act and FAR Part 150 have been satisfied. The overall program was approved, by the Manager of the Airports Division, Western-Pacific Region, effective September 18, 2008.

Outright approval was granted for all ten (10) specific program measures. The approved measures included such items as: Continue Voluntary Policies That Limit Turbojet Training Operations; Continued Informal Preferential Use of Runways 30 LJR; Continue To Use Intersection Takeoffs for Single and Twin-Engine Aircraft at the Taxiway F Intersection on Runway 30R; Revise Airport Land Use Compatibility Plan (ALUCP) Zones To Reflect the Ultimate Runway Configuration if the Third Parallel Runway Is Included in the Master Plan and Pursued by the County; Maintain Compatibility Planned Areas Within the Airport Influence Area; Maintaining Compatible Zoning Within Airport Influence Area (AlA); Amend Section 4.8 of the Airport Land Use Compatibility Plan (ALUCP) To Include Compatibility Criteria That Explicitly Identify Compatible Land Uses; Amend Section 4.8 of the Airport Land Use Compatibility Plan (ALUCP) To Incorporate Prescriptive Noise Standards To Address Airport Noise Concerns in New Construction and Major Alterations to Existing Structures; Continue Noise Complaint Tracking Program; Update Noise Exposure Maps and Noise Compatibility Program; Monitor Implementation of Updated F.A.R. Part 150 Noise Compatibility Program.

These determinations are set forth in detail in the Record of Approval signed by the Manager of the Airports Division, Western-Pacific Region, on September 18, 2008. The Record of Approval, as well as other evaluation materials and the documents comprising the submittal, are available for review at the FAA office listed above and at the administrative offices of the County of Kern Department of Airports, Meadows Field. The Record of Approval also will be available on-line at: http://www.faa.gov/airports_airtraffic/airports/environmentai/airport_noise/part_150/states/ .

Issued in Hawthorne, California on September 29, 2008.
Mark A. McClardy,
Manager, Airports Division, Western-Pacific Region, AWP-600.

[FR Doc. E8-24814 Filed 10-20-08; 8:45 am]

BILLING CODE 4910-13-M